Title 3—

The President

Proclamation 10447 of September 15, 2022

National POW/MIA Recognition Day, 2022

By the President of the United States of America

A Proclamation

From Belleau Wood to the Battle of the Bulge, Korea to Vietnam, Afghanistan to Iraq, and around the world, American patriots have dared all, risked all, and given all to defend our Nation and protect our liberties. Now and always, we honor their service, valor, and sacrifice. We also continue the righteous work of bringing home our heroes who remain unaccounted for.

On National POW/MIA Recognition Day, we pledge to seek out answers for the families of service members still missing in action. We commit to doing all in our power to identify and recover America's missing sons and daughters. And we pay tribute to former prisoners of war—individuals who exhibited remarkable courage, love of country, and devotion to duty to protect our Nation's safety and freedoms.

Today and every day, we fly the iconic black and white flag symbolizing America's Prisoners of War and Missing in Action above the White House, at the United States Capitol, on military bases, at memorials and cemeteries, and at homes across America. It is a reminder that we have not forgotten the heroism of our POWs and MIAs and that we still hope for their return. There is no undertaking more fundamental than the rite of remembrance, and there is no act more sacred or more American than keeping the faith with those who have sacrificed so much for our Nation.

On this day of heartache and of resolve, let us offer strength to the families still waiting for the return of their loved ones. Let us extend our gratitude to Americans and international partners working tirelessly to bring home our missing service members from prior conflicts. And let us remember that freedom is never free, that democracy always requires champions, and that we owe an eternal debt to the heroes of our Armed Forces.

NOW, THEREFORE, I, JOSEPH R. BIDEN JR., President of the United States of America, by virtue of the authority vested in me by the Constitution and the laws of the United States, do hereby proclaim September 16, 2022, as National POW/MIA Recognition Day. Along with my fellow Americans, I salute our former POWs who overcame unspeakable indignities to return home with honor. We will work tirelessly to provide the families of those who have not yet come home the fullest possible measure of accounting. I urge all Americans to observe this day of honor and remembrance with appropriate ceremonies and activities.

IN WITNESS WHEREOF, I have hereunto set my hand this fifteenth day of September, in the year of our Lord two thousand twenty-two, and of the Independence of the United States of America the two hundred and forty-seventh.

[FR Doc. 2022-20449

Filed 9-19-22; 8:45 am]

Billing code 3395-F2-P